DEPARTMENT OF THE INTERIOR

National Park Service

[NPS-PWR-PWRO-1108-8862; 2031-A038-409]

Draft Environmental Impact Statement/General Management Plan, Golden Gate National Recreation Area, CA

AGENCY: National Park Service, Interior.

ACTION: Notice of Extended Public Comment Period for Draft Environmental Impact Statement/General Management Plan, Golden Gate National Recreation Area.

SUMMARY: The National Park Service has prepared a Draft General Management Plan and Environmental Impact Statement (Plan/DEIS). The Plan/DEIS evaluates four alternatives for updating the current approach to management in Golden Gate National Recreation Area (GGNRA) and Muir Woods National Monument. The original Notice of Availability (published in the Federal Register on September 12, 2011) announced a 60-day public comment period. In recognition of the complexity of the proposed plan alternatives, and with deference to interest from the public and interested organizations, the comment period has been reopened and extended through December 9, 2011.

SUPPLEMENTARY INFORMATION: It will not be necessary for individuals, organizations, and agencies that have already commented to do so again. All other comments must now be postmarked or transmitted no later than December 9, 2011. Respondents wishing to comment electronically may do so online http://parkplanning.nps.gov/goga, or letters may be submitted via regular mail to: Frank Dean, General Superintendent, GGNRA, Ft. Mason, Bldg. 201, San Francisco, CA 94123.

Up-to-date information may be obtained by contacting GGNRA at (415) 561-4930.

Before including your address, phone number, email address, or other personal identifying information in your comment, you should be aware that your entire comment—including your personal identifying information—may be made publicly available at any time. While you can ask us in your comment to withhold your personal identifying information from public review, we cannot guarantee that we will be able to do so.

Dated: November 3, 2011.
John H. Williams,
Acting Regional Director, Pacific West Region.

[FR Doc. 2011-32833 Filed 12-21-11; 8:45 am]

BILLING CODE 4310-70-P